DEPARTMENT OF COMMERCE

National Institute of Standards and Technology

Freedom of Information Act Requests for Photographs and Videos Collected by the National Institute of Standards and Technology for Its Investigation Into the Failures of the World Trade Center Buildings

AGENCY: National Institute of Standards and Technology, Department of Commerce.

ACTION: Notice.

SUMMARY: Photographers whose photographs and videos were provided to NIST for use in its investigation into the failures of World Trade Center (WTC) Buildings 1, 2 and 7 must provide NIST with a written response explaining how disclosure of their images would likely cause substantial competitive harm to their competitive position and/or impair the Government's ability to obtain similar information in the future if you believe that some or all of the images you submitted to NIST should be withheld in response to requests received by NIST under the Freedom of Information Act.

DATES: All written responses must be received by NIST by c.o.b., August 24, 2009.

ADDRESSES: All written responses must be sent to NIST Freedom of Information Act Officer, 100 Bureau Drive, Mail Stop 1710, Gaithersburg, Maryland 20899-1710 or by e-mail to Catherine.fletcher@nist.gov.

FOR FURTHER INFORMATION CONTACT: NIST FOIA Officer by telephone at (301) 975-4074, or by e-mail at Catherine.fletcher@nist.gov.

SUPPLEMENTARY INFORMATION: The National Institute of Standards and Technology (NIST) has received requests made under the Federal Freedom of Information Act (Title 5 U.S.C. 552) (FOIA) for the photographs and videos NIST collected as part of its investigation of the collapse of the World Trade Center Towers (Buildings 1 and 2) and World Trade Center Building 7. The FOIA requests are located at: http://wtc.nist.gov/FOIA/FOIArequests09_15_42_63_88.pdf. During the course of its investigation NIST received thousands of photographic and video images from hundreds of photographers.

Under the FOIA, the Government is required to release to a requester copies of documents it maintains that are not otherwise protected by an exemption to the FOIA. One particular exemption, exemption (b)(4), protects from disclosure any records, or portions thereof, which contain “trade secrets and commercial or financial information obtained from a person and privileged or confidential.” 5 U.S.C. § 552(b)(4).

If you submitted photographic or video images to NIST for its World Trade Center investigation and if you believe that some or all of the images should be withheld, you must notify NIST in writing within ten (10) working days (i.e., excluding Saturday, Sunday, and legal public holidays) from the date of publication of this Federal Register notice. Your written response must specifically identify which images you submitted to NIST for which you are asserting privilege under exemption (b)(4). You should include copies of your images with your written response to help identify your images. If you do not positively identify your image(s), your written response will not be considered. Your written response must indicate that you are responding to this Federal Register notice. Your written response must explain why the images are commercial or financial information that is privileged or confidential. In order to protect information under exemption (b)(4), your written response must explain, in detail, how disclosure of your images would likely cause substantial harm to your competitive position and/or how disclosure of your images will impair the Government's ability to obtain similar information in the future. A conclusory statement, to the effect that the information is confidential because releasing it could cause substantial competitive harm, will not suffice. Your written response must include your full name and complete address. You may notify the NIST FOIA Officer of your position by sending an e-mail to Catherine.fletcher@nist.gov or by mailing a letter to: NIST Freedom of Information Act Officer, 100 Bureau Drive, Mail Stop 1710, Gaithersburg, Maryland 20899-1710.

NIST does not have current contact information for all of the photographers whose images were submitted for the NIST WTC Investigation. If you know a photographer whose images were submitted to NIST, please notify them of this notice.

FOIA lawsuits were filed for these records on May 28, 2009 and June 15, 2009. Therefore, time is of the essence in processing this request. If we do not receive a response from you within 10 working days from the date of publication of this Federal Register notice, your images might be released to the FOIA requester.

Dated: August 11, 2009.
Katharine Gebbie,
Director, Physics Laboratory.

[FR Doc. E9-19535 Filed 8-13-09; 8:45 am]

BILLING CODE 3510-13-P